COMMITTEE FOR PURCHASE FROM PEOPLE WHO ARE BLIND OR SEVERELY DISABLED

Procurement List: Proposed Additions and Deletions

AGENCY: Committee for Purchase From People Who Are Blind or Severely Disabled.

ACTION: Proposed additions to and deletions from the Procurement List.

SUMMARY: The Committee is proposing to add products to the Procurement List that will be furnished by a nonprofit agency employing persons who are blind or have other severe disabilities, and deletes products and a service previously furnished by such agencies.

DATES: Comments must be received on or before May 28, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN(s)—Product Name(s):

5180-01-563-6719—Kit, Urban Operation Tools, Squad

5180-01-631-3029—Kit, Urban Operations Tools, Platoon

Mandatory Source(s) of Supply: Wiscraft, Inc., Milwaukee, WI

Mandatory for: 100% of the requirements of the U.S. Army

Contracting Activity: U.S. Army TACOM LCMC ILSC—SKOT Group

Distribution: C-List

Deletions

The following products and service are proposed for deletion from the Procurement List:

Products:

NSN(s)—Product Name(s): 7530‐01‐368‐3491—Index Dividers, White Tabs with Black Print, January-December

Mandatory Source(s) of Supply: South Texas Lighthouse for the Blind, Corpus Christi, TX

Contracting Activities: General Services Administration, New York, NY Department of Veterans Affairs, Strategic Acquisition Center

NSN(s)—Product Name(s):

7930-00-NIB-0210 Cleaner, Phenolic Disinfectant, Concentrate, 2 Liter

7930-01-381-5957 Cleaner, Pretreatment Carpet, Concentrate, 2 Liter

7930-01-412-1031 Cleaner, Scotchgard Bonnet, Concentrate, 2 Liter

Mandatory Source(s) of Supply: Beacon Lighthouse, Inc., Wichita Falls, TX

Contracting Activity: Department of Veterans Affairs, Strategic Acquisition Center

NSN(s)—Product Name(s): 7350-01-359-9524—Cup, Paper, Recyclable, White, 9 oz.

Mandatory Source(s) of Supply: Clovernook Center for the Blind and Visually Impaired, Cincinnati, OH

Contracting Activity: General Services Administration, Fort Worth, TX

NSN(s)—Product Name(s):

7520-01-624-9379—Pen, Roller Ball, Liquid Ink, Retractable, Needle Point, Airplane Safe, 0.5mm, Refillable, Black, EA

7520-01-624-9383—Pen, Roller Ball, Liquid Ink, Retractable, Needle Point, Airplane Safe, 0.5mm, Refillable, Blue, EA

7520-01-624-9384—Pen, Roller Ball, Liquid Ink, Retractable, Needle Point, Airplane Safe, 0.7mm, Refillable, Black, EA

7520-01-624-9385—Pen, Roller Ball, Liquid Ink, Retractable, Needle Point, Airplane Safe, 0.7mm, Refillable, Blue, EA

Mandatory Source(s) of Supply: San Antonio Lighthouse for the Blind, San Antonio, TX

Contracting Activity: General Services Administration, New York, NY

NSN(s)—Product Name(s): 7520-01-466-0485—Tray, Desk, Plastic

Mandatory Source(s) of Supply: LC Industries, Inc., Durham, NC

Contracting Activity: General Services Administration, New York, NY

NSN(s)—Product Name(s):

891500-NSH-0145—Diced Green Peppers Diced Green Peppers

891500-NSH-0146—Sliced Yellow Onions Sliced Yellow Onions

891500-NSH-0147—Cole Slaw with Carrots

Mandatory Source(s) of Supply: Employment Solutions, Inc., Lexington, KY

Contracting Activity: Department of Justice, Federal Prison System

NSN(s)—Product Name(s):MR 942—Cloth, Dish, 2 pack

Mandatory Source(s) of Supply: Lions Services, Inc., Charlotte, NC

Contracting Activity: Defense Commissary Agency

NSN(s)—Product Name(s): 1430-01-133-8435—Bag, Storage

Mandatory Source(s) of Supply: Huntsville Rehabilitation Foundation, Huntsville, AL

Contracting Activity: Defense Logistics Agency Land and Maritime

Service

Service Type: Customization & Distribution of NRPM Service Department of the Navy, FISC Norfolk: Detachment 1322 Patterson Ave. SE. Washington Navy Yard, Washington DC

Mandatory Source(s) of Supply: Industries for the Blind, Inc., West Allis, WI

Contracting Activity: Dept of Defense/Department of the Navy

Amy B. Jensen,
Director, Business Operations.

[FR Doc. 2017-08613 Filed 4-27-17; 8:45 am]

BILLING CODE 6353-01-P